DEPARTMENT OF DEFENSE

Department of the Navy

Notice of Extension of Public Comment Period for the Draft Supplemental Environmental Impact Statement/Overseas Environmental Impact Statement for Northwest Training and Testing

AGENCY: Department of the Navy, DoD.

ACTION: Notice.

SUMMARY: A notice of public meetings was published in the Federal Register by the Department of the Navy on March 29, 2019 for the Draft Supplemental Environmental Impact Statement/Overseas Environmental Impact Statement (EIS/OEIS) for the Northwest Training and Testing (NWTT) Study Area.

DATES: This notice announces a 15-day extension of the public comment period from May 28, 2019, to June 12, 2019.

ADDRESSES: Comments may be mailed to Naval Facilities Engineering Command Northwest, Attention: NWTT Supplemental EIS/OEIS Project Manager, 3730 N. Charles Porter Avenue, Building 385, Oak Harbor, WA 98278-3500, or electronically via the project website at www.NWTTEIS.com. All comments submitted during the public comment period will become part of the public record and substantive comments will be addressed in the Final Supplemental EIS/OEIS. All comments must be postmarked or received online by June 12, 2019, Pacific Standard Time, for consideration in the Final Supplemental EIS/OEIS.

Naval Facilities Engineering Command Northwest, Attention: NWTT Supplemental EIS/OEIS Project Manager, 3730 N. Charles Porter Avenue, Building 385, Oak Harbor, WA 98278-3500.

SUPPLEMENTARY INFORMATION: The Draft Supplemental EIS/OEIS was distributed to federal agencies and federally recognized tribes, with which the DoN consulted. Copies of the Draft Supplemental EIS/OEIS are available for public review at the following public locations:

1. Everett Main Library, 2702 Hoyt Avenue, Everett, WA 98201-3506.

2. Gig Harbor Library, 4424 Point Fosdick Drive NW, Gig Harbor, WA 98335-1700.

3. Jefferson County Library, Port Hadlock, 620 Cedar Avenue, Port Hadlock, WA 98339-5001.

4. Kitsap Regional Library, Poulsbo, 700 NE Lincoln Road, Poulsbo, WA 98370-7688.

5. Kitsap Regional Library, Sylvan Way (Bremerton), 1301 Sylvan Way, Bremerton, WA 98310-3466.

6. North Olympic Library System, Forks Branch, 171 S. Forks Avenue, Forks, WA 98331-9023.

7. Lopez Island Library, 2225 Fisherman Bay Road, Lopez Island, WA 98261-8676.

8. Oak Harbor Public Library, 1000 SE Regatta Drive, Oak Harbor, WA 98277-3091.

9. Port Angeles Main Library, 2210 S. Peabody Street, Port Angeles, WA 98362-6536.

10. Port Townsend Public Library, 1220 Lawrence Street, Port Townsend, WA 98368-6527.

11. San Juan Island Library, 1010 Guard Street, Friday Harbor, WA 98250-9240.

12. Timberland Regional Library, Aberdeen, 121 E. Market Street, Aberdeen, WA 98520-5216.

13. Timberland Regional Library, Hoquiam, 420 Seventh Street, Hoquiam, WA 98550-3616.

14. Astoria Public Library, 450 10th Street, Astoria, OR 97103-4602.

15. Driftwood Public Library, 801 SW Highway 101 #201, Lincoln City, OR 97367-2720.

16. Newport Public Library, 35 NW Nye Street, Newport, OR 97365-3714.

17. Oregon State University, Guin Library Hatfield Marine Science Center, 2030 SE Marine Science Drive, Newport, OR 97365-5300.

18. Tillamook Main Library, 1716 Third Street, Tillamook, OR 97141-2124.

19. Fort Bragg Branch Library, 499 Laurel Street, Fort Bragg, CA 95437-3511.

20. Humboldt County Public Library, Arcata Branch Library, 500 Seventh Street, Arcata, CA 95521-6315.

21. Humboldt County Public Library, Eureka Main Library, 1313 Third Street, Eureka, CA 95501-0546.

22. Redwood Coast Senior Center, 490 N. Harold Street, Fort Bragg, CA 95437-3331.

23. Juneau Public Library, Downtown Branch, 292 Marine Way, Juneau, AK 99801-1361.

24. Ketchikan Public Library, 1110 Copper Ridge Lane, Ketchikan, AK 99901-6250.

Dated: April 15, 2019.
M.S. Werner,
Commander, Judge Advocate General's Corps, U.S. Navy, Federal Register Liaison Officer.

[FR Doc. 2019-07815 Filed 4-17-19; 8:45 am]

BILLING CODE 3810-FF-P